DEPARTMENT OF THE TREASURY

Office of Foreign Assets Control

Unblocking of Specially Designated Nationals and Blocked Persons Pursuant to Executive Order 13448

AGENCY: Office of Foreign Assets Control, Treasury.

ACTION: Notice.

SUMMARY: The Treasury Department's Office of Foreign Assets Control (OFAC) is removing the name of one individual and two entities whose property and interests in property have been unblocked pursuant to Executive Order 13448.

DATES: OFAC's actions described in this notice are effective April 23, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The list of Specially Designated Nationals and Blocked Persons (SDN List) and additional information concerning OFAC sanctions programs are available from OFAC's Web site (www.treasury.gov/ofac). Certain general information pertaining to OFAC's sanctions programs is also available via facsimile through a 24-hour fax-on-demand service, tel.: 202/622-0077.

Notice of OFAC Action

On April 23, 2015, OFAC unblocked the property and interests in property of the following individual and entities pursuant to Executive Order 13448 of October 18, 2007, “Blocking Property and Prohibiting Certain Transactions Related to Burma.”

Individual:

AUNG, Win (a.k.a. AUNG, Dagon Win; a.k.a. AUNG, U Win); DOB 1953; nationality Burma (individual) [BURMA] (Linked To: DAGON INTERNATIONAL LIMITED; Linked To: DAGON TIMBER LIMITED).

Entities:

DAGON INTERNATIONAL LIMITED (a.k.a. DAGON INTERNATIONAL; a.k.a. DAGON INTERNATIONAL CONSTRUCTION COMPANY), Dagon Centre, 6th Floor, 262-264 Pyay Road, Myayingone, Sanchaung Township, Yangon, Burma [BURMA].

DAGON TIMBER LIMITED (a.k.a. DAGON TIMBER), Dagon Centre, 262-264 Pyay Road, Myaynigone, Yangon, Burma [BURMA].

Dated: April 23, 2015.
Andrea Gacki,
Acting Director, Office of Foreign Assets Control.

[FR Doc. 2015-09980 Filed 4-28-15; 8:45 am]

BILLING CODE 4810-AL-P